DEPARTMENT OF LABOR

Mine Safety and Health Administration

[OMB Control No. 1219-0009]

Proposed Extension of Information Collection; Training Plans and Records of Training, for Underground Miners and Miners Working at Surface Mines and Surface Areas of Underground Mines

AGENCY: Mine Safety and Health Administration, Labor.

ACTION: Request for public comments.

SUMMARY: The Department of Labor, as part of its continuing effort to reduce paperwork and respondent burden, conducts a pre-clearance consultation program to provide the general public and Federal agencies with an opportunity to comment on proposed collections of information in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection regarding Training Plans and Records of Training, for Underground Miners and Miners Working at Surface Mines and Surface Areas of Underground Mines.

DATES: All comments must be received on or before November 17, 2023.

ADDRESSES: Comments concerning the information collection requirements of this notice may be sent by any of the methods listed below. Please note that late, untimely filed comments will not be considered.

• Federal E-Rulemaking Portal: http://www.regulations.gov. Follow the on-line instructions for submitting comments for docket number MSHA-2023-0045.

• Mail/Hand Delivery: DOL-MSHA, Office of Standards, Regulations, and Variances, 201 12th Street South, Suite 4E401, Arlington, VA 22202-5452. Before visiting MSHA in person, call 202-693-9455 to make an appointment, in keeping with the Department of Labor's COVID-19 policy. Special health precautions may be required.

• MSHA will post all comments as well as any attachments, except for information submitted and marked as confidential, in the docket at https://www.regulations.gov.

FOR FURTHER INFORMATION CONTACT: S. Aromie Noe, Director, Office of Standards, Regulations, and Variances, MSHA, at MSHA.information .collections@dol.gov (email); (202) 693-9440 (voice); or (202) 693-9441 (facsimile). These are not toll-free numbers.

SUPPLEMENTARY INFORMATION:

I. Background

Section 103(h) of the Federal Mine Safety and Health Act of 1977 (Mine Act), Public Law 95-164 as amended, 30 U.S.C. 813(h), authorizes MSHA to collect information necessary to carry out its duty in protecting the safety and health of miners. Further, section 101(a) of the Mine Act, 30 U.S.C. 811(a), authorizes the Secretary of Labor (Secretary) to develop, promulgate, and revise as may be appropriate, improved mandatory health or safety standards for the protection of life and prevention of injuries in coal and metal and nonmetal mines.

The Mine Act recognizes that education and training is an important element of efforts to make the nation's mines safe. Section 115(a) of the Mine Act, 30 U.S.C. 825(a), states that “each operator of a coal and other mine shall have a health and safety training program which shall be approved by the Secretary.” These standards are intended to ensure that miners will be effectively trained in matters affecting their health and safety, with the ultimate goal of reducing the occurrence of injury and illness in the nation's mines.

A. Training Plan Approvals and Revisions

30 CFR 48.3 and 48.23 require training plans, respectively, for miners at underground mines, and for miners at surface mines and surface areas of underground mines. Specifically, 30 CFR 48.3(a) and 48.23(a) require each mine operator to have an MSHA-approved plan containing programs for training new miners, training experienced miners, training miners for new task, annual refresher training, and hazard training for miners.

Under 30 CFR 48.3(b) and 48.23(b) training plans are required to be submitted for approval to the MSHA District Manager for the area where the mine is located. The training plans must contain the information as listed in 30 CFR 48.3(c) and 48.23(c).

Under 30 CFR 48.3(l) and 48.23(l) the operator is required to notify the District Manager and the miners' representative of any changes of modification and obtain the approval of the District Manager.

B. Training Records MSHA Form 5000-23

30 CFR 48.9 and 48.29 require records of training for underground mines and for surface mines and surface areas of underground mines, respectively. Upon completion of each training program, the mine operator must record and certify on MSHA Form 5000-23, Certificate of Training, that the miner has received the specified training in each subject area of the approved health and safety training plan. A copy of the training certificate must be given to the miner at the completion of the training.

The Certificate of Training form, MSHA Form 5000-23, must be maintained by the operator for a period of two years for current employees and for 60 days after termination of a miner's employment and must be available for inspection at the mine site. In addition, the miner is entitled to a copy of the certificate when the miner leaves the operator's employment.

C. Copies of Training Plans

Under 30 CFR 48.3(d) and 48.23(d) the operator is required to provide the representative of the miners with a copy of the training plan or to post a copy on the mine bulletin board two weeks prior to its submission to the District Manager. Written comments received by the operator from miners or their representatives must be submitted to the District Manager. Miners or their representatives are allowed to submit written comments directly to the District Manager.

Under 30 CFR 48.3(f) and 48.23(f) the operator is required to make a copy of the MSHA approved training plan available at the mine site for MSHA's inspection and for miners representative's examination.

Under 30 CFR 48.3(n) and 48.23(n) the operator is required to post on the mine bulletin board and to provide to the miners' representative a copy of all MSHA revisions and decisions concerning the training plan.

D. MSHA Evaluation, Approval, and Disapproval

Under 30 CFR 48.3(a)(2) and 48.23(a)(2) the operator is required to have an approved training plan within 60 days of submission, unless extended by MSHA.

Under 30 CFR 48.3(e) and 48.23(e) all training in the training plan is subject to evaluation by the District Manger to determine the effectiveness of the training programs. Upon request from the District Manager, the operator must provide instructional or training materials for evaluation.

Under 30 CFR 48.3(i) and 48.23(i) the District Manager is required to send written reasons to revoke the approval of instructors. The instructor can submit their appeal to MSHA within 5 days of notification.

Under 30 CFR 48.3(j) and 48.23(j) the District Manager is required to notify the operator and the miners' representative in writing of the approval or status of the training programs within 60 days from the date on which the training plan is filed.

Under 30 CFR 48.3(m) and 48.23(m) the District Manager is required to notify the operator and the miners' representative in writing of the disapproval of a training plan or a proposed modification.

II. Desired Focus of Comments

MSHA is soliciting comments concerning the proposed information collection related to Training Plans and Records of Training, for Underground Miners and Miners Working at Surface Mines and Surface Areas of Underground Mines. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on http://www.regulations.gov. MSHA cautions the commenter against providing any information in the submission that should not be publicly disclosed. Full comments, including personal information provided, will be made available on www.regulations.gov and www.reginfo.gov.

The public may also examine publicly available documents at DOL-MSHA, Office of Standards, Regulations and Variances, 201 12th Street South, Suite 4E401, Arlington, VA 22202-5452. Sign in at the receptionist's desk on the 4th floor via the East elevator. Before visiting MSHA in person, call 202-693-9455 to make an appointment, in keeping with the Department of Labor's COVID-19 policy. Special health precautions may be required.

Questions about the information collection requirements may be directed to the person listed in the FOR FURTHER INFORMATION section of this notice.

III. Current Actions

This information collection request concerns provisions for Training Plans and Records of Training, for Underground Miners and Miners Working at Surface Mines and Surface Areas of Underground Mines. MSHA has updated the data with respect to the number of respondents, responses, burden hours, and burden costs supporting this information collection request from the previous information collection request.

Type of Review: Extension, without change, of a currently approved collection.

Agency: Mine Safety and Health Administration.

OMB Number: 1219-0009.

Affected Public: Business or other for-profit.

Number of Annual Respondents: 65,494.

Frequency: On occasion.

Number of Annual Responses: 130,055.

Annual Burden Hours: 12,434 hours.

Annual Respondent or Recordkeeper Cost: $394,856.

MSHA Forms: MSHA Form 5000-23, Certificate of Training.

Comments submitted in response to this notice will be summarized and included in the request for Office of Management and Budget approval of the proposed information collection request; they will become a matter of public record and will be available at https://www.reginfo.gov.

Song-Ae Aromie Noe,
Certifying Officer, Mine Safety and Health Administration.

[FR Doc. 2023-20097 Filed 9-15-23; 8:45 am]

BILLING CODE 4520-43-P